DEPARTMENT OF AGRICULTURE

Rural Business-Cooperative Service

[Docket No. RBS-20-BUSINESS-0045]

Inviting Applications for Value-Added Producer Grants and Solicitation of Grant Reviewers; Correction

AGENCY: Rural Business-Cooperative Service, USDA.

ACTION: Notice; correction.

SUMMARY: The Rural Business-Cooperative Service (Agency), USDA published a notice in the Federal Register of December 21, 2020 regarding acceptance of applications for the Value-Added Producer Grant (VAPG) Program. This document inadvertently listed two incorrect amounts of available funds and omitted the option for the applicants to submit applications via electronic mail. This notice corrects these errors.

FOR FURTHER INFORMATION CONTACT: Greg York at (202) 281-5289, gregory.york@usda.gov or Mike Daniels at (715) 345-7637, mike.daniels@usda.gov, Program Management Division, Rural Business-Cooperative Service, United States Department of Agriculture, 1400 Independence Ave. SW, Mails STOP 3226, Room 5801-S, Washington, DC 20250-3226, Telephone (202) 720-1400, or email CPgrants@usda.gov.

SUPPLEMENTARY INFORMATION:

Correction

(1) In the Federal Register of December 21, 2020, in FR Doc. 2020-27986, on page 83038, in the first column, under the SUMMARY, correct the second sentence to read: Approximately $33 million is currently available.

(2) In the Federal Register of December 21, 2020, in FR Doc. 2020-27986, on page 83039, in the second column, under B. Federal Award Information, correct Available Total Funding to read: $33 million.

(3) In the Federal Register of December 21, 2020, in FR Doc. 2020-27986, on page 83038, in the first column, correct the DATES caption to read: Applications must be submitted to the USDA Rural Development State Office for the state where the project is located. Applications may be submitted in paper through hand delivery or electronic mail format to the appropriate Rural Development State Office and must be received by 4:30 p.m. local time on March 22, 2021. Mailed applications must be postmarked, shipped or sent by March 22, 2021. Electronic applications via http://www.grants.gov must be received before Midnight Eastern time on March 16, 2021. Follow the instructions for the VAPG funding announcement on http://www.grants.gov. Please review the Grants.gov website at https://www.grants.gov/web/grants/applicants/registration.html for instructions on the process of registering your organization as soon as possible to ensure you are able to meet the electronic application deadline. Late applications are not eligible for grant funding under this Notice. Applicants are encouraged to contact their respective Rural Development State Office for an email contact to submit an electronic application prior to the submission deadline date(s). A list of the USDA Rural Development State Office contacts can be found at: https://www.rd.usda.gov/page/state-offices.

(4) In the Federal Register of December 21, 2020, in FR Doc. 2020-27986, on page 83038, in the third column, under Overview, correct Dates to read: Application Deadline. You must submit your complete paper or electronic mail application by March 22, 2021, or it will not be considered for funding. Electronic applications must be received by http://www.grants.gov no later than midnight Eastern time on March 16, 2021, or it will not be considered for funding.

(5) In the Federal Register of December 21, 2020, in FR Doc. 2020-27986, on page 83041, in the first column, under D. Application and Submission Information, under 2. Content and Form of Application Submission, correct the first paragraph to read: You may submit your application in paper, in electronic mail form, or electronically through Grants.gov. Your application must contain all required information.

(6) In the Federal Register of December 21, 2020, in FR Doc. 2020-27986, on page 83041, in the second column, correct the sixth full paragraph to read: If you want to submit a paper or electronic mail application, send it to the State Office located in the state where your project will primarily take place. You can find State Office contact information at https://www.rd.usda.gov/page/state-offices. An optional-use Agency application template is available online at http://www.rd.usda.gov/programs-services/value-added-producer-grants.

(7) In the Federal Register of December 21, 2020, in FR Doc. 2020-27986, on page 83042, in the first column, under 4. Submission Dates and Times, under Explanation of Deadlines:, correct the first paragraph to read: Paper applications must be postmarked and mailed, shipped, or sent overnight by March 22, 2021. The Agency will determine whether your application is late based on the date shown on the postmark or shipping invoice. You may also hand deliver or electronic mail your application to one of our field offices, but it must be received by close of business on the deadline date. If the due date falls on a Saturday, Sunday, or Federal holiday, the application is due the next business day. Late applications will automatically be considered ineligible and will not be evaluated further.

Mark Brodziski,
Deputy Administrator, Rural Business-Cooperative Service.

[FR Doc. 2020-29010 Filed 12-31-20; 8:45 am]

BILLING CODE P